DEPARTMENT OF HOUSING AND URBAN DEVELOPMENT

[Docket No. FR-5378-N-06]

Notice of Submission of Proposed Information Collection to OMB; Section 3 Implementation and Coordination Grant Application

AGENCY: Office of the Chief Information Officer, HUD.

ACTION: Notice of Proposed Information Collection.

SUMMARY: The proposed information collection requirement described below is being submitted to the Office of Management and Budget (OMB) for review and approval, as required by the Paperwork Reduction Act of 1995. The Department is soliciting public comments on the subject proposal.

This is a request for approval to provide competitive funding to States, units of local government, Public Housing Authorities, Indian Housing Authorities, Indian Tribes, or other public bodies to pay for the salaries, fringe benefits, and administrative expenses related to hiring a Section 3 Program Coordinator. Information collected under this approval will be used to select the highest ranked applicants, and to conduct quarterly and annual performance assessments.

DATES: February 28, 2011.

ADDRESSES: Interested persons are invited to submit comments regarding this proposal. Comments must be received within 60 days from the date of this Notice. Comments should refer to the proposal by name and/or OMB Control Number, and should be sent to: Colette Pollard, Paperwork Reduction Act Officer, Office of the Chief Information Officer, Department of Housing and Urban Development, 451 7th Street, SW., Room 4160, Washington, DC 20410. HUD Desk Officer, telephone number (202) 402-3400 (this is not a toll-free number). Hearing or speech-impaired individuals may access this number via TTY by calling the toll-free Federal Information Relay Service at: 1-800-877-8399.

FOR FURTHER INFORMATION CONTACT: Staci Gilliam, Director, Economic Opportunity Division, Office of Fair Housing and Equal Opportunity, Department of Housing and Urban Development, 451 7th Street, SW., Room 5234, Washington, DC 20410, telephone (202) 402-3468. (This is not a toll-free number). Hearing or speech-impaired individuals may access this number TTY by calling the toll-free Federal Information Relay Service at 1-800-877-8399.

SUPPLEMENTARY INFORMATION: The Department is submitting this proposed information collection requirement to OMB for 2529-0050, as described below.

This notice is soliciting comments from members of the public and affected agencies concerning the proposed information collection in order to: (1) Evaluate whether the proposed information collection is necessary for the proper performance of the functions of the agency, including whether the information will have practical utility; (2) Evaluate the accuracy of the agency's estimate of the proposed collection of information; (3) Enhance the quality, utility and clarity of the information which must be collected; and (4) Minimize the burden of the information collection on those who are to respond, including the use of appropriate automated collection techniques or other forms of information technology, e.g., electronic transmission of data.

Title of Regulation

OMB Control Number, if Applicable: 2529-0050.

Description of Information Collection: The proposed information collection is intended to assess the qualifications and eligibility of applicants for funding under the Section 3 Program Coordination and Implementation Notice of Funding Availability (NOFA). It will assess each applicant's ability to hire a Section 3 Program Coordinator who will be responsible for carrying out key assignments that will produce employment, training, and contracting opportunities for low- and very low-income persons and certain businesses located in the community that the Coordinator serves. Recipients of funding under this NOFA will also be required to submit quarterly and annual reports to the Department documenting their progress and performance with accomplishing goals under the NOFA. This information will be submitted to HUD in the form of narrative reports that are based on milestones and deliverables established in the grantee's Work Plan.

Agency Form Number(s), if Applicable: Forms SF-424, SF-424 Supplement, SF LLL, HUD 965, HUD 966, HUD 967, HUD-2880, HUD 2990, HUD 2993, HUD-424CB, HUD-424CBW, HUD-2994-A, HUD-27300, HUD-96010, and 96011.

Members of Affected Public: States, units of local government, Public Housing Authorities, Indian Housing Authorities, Indian Tribes, or other public bodies.

Estimation of the Total Numbers of Hours Needed To Prepare the Information Collection Including the Number of Respondents, Frequency of Response, and Hours of Response: An estimation of the total number of hours needed to prepare the information collection is 10 hours, the likely number of respondents is 515 applicants, with a frequency of response of 5 per annum.

Status of the Proposed Information Collection: Proposed new collection.

Authority: The Paperwork Reduction Act of 1995, 44 U.S.C. Chapter 35, as amended.

Dated: December 16, 2010.
Staci Gilliam,
Director, Economic Opportunity Division.

[FR Doc. 2010-32681 Filed 12-27-10; 8:45 am]

BILLING CODE 4210-67-P